DEPARTMENT OF COMMERCE

International Trade Administration

[A-570-900]

Diamond Sawblades and Parts Thereof From the People's Republic of China: Rescission of Antidumping Duty Administrative Review in Part

AGENCY: Import Administration, International Trade Administration, Department of Commerce.

SUMMARY: On December 28, 2010, the Department initiated an administrative review of the antidumping duty order on diamond sawblades and parts thereof (diamond sawblades) from the People's Republic of China (the PRC). The period of review is January 23, 2009, through October 31, 2010. The Department is rescinding this review in part.

DATES: Effective Date: August 8, 2012.

FOR FURTHER INFORMATION CONTACT: Yang Jin Chun, AD/CVD Operations, Office 1, Import Administration, International Trade Administration, U.S. Department of Commerce, 14th Street and Constitution Avenue NW., Washington, DC 20230; telephone: (202) 482-5760.

SUPPLEMENTARY INFORMATION:

Rescission of Administrative Review in Part

On December 28, 2010, based on timely requests for an administrative review, the Department published in the Federal Register a notice of initiation of an administrative review of the antidumping duty order on diamond sawblades from the PRC.¹ In accordance with 19 CFR 351.213(d)(1), the Department will rescind an administrative review “if a party that requested the review withdraws the request within 90 days of the date of publication of notice of initiation of the requested review.” On March 28, 2011, the petitioner, Diamond Sawblades Manufacturers Coalition, withdrew its request for review of sales of subject merchandise with respect to Hebei Jikai Industrial Group Co., Ltd. (Hebei Jikai) and Jiangyin Likn Industry Co., Ltd. (Jiangyin Likn). These two companies have separate rates from a prior segment of this proceeding.² In Diamond Sawblades and Parts Thereof from the People's Republic of China: Preliminary Results of Antidumping Duty Administrative Review and Intent to Rescind Review in Part, 76 FR 76135 (December 6, 2011), we inadvertently assigned the PRC-wide rate to these companies. However, it is the Department's practice to rescind an administrative review with respect to a company that has a separate rate from a prior segment of the proceeding where the only party that requested a review timely withdrew its request.³

¹ See Initiation of Antidumping and Countervailing Duty Administrative Reviews and Request for Revocation in Part, 75 FR 81565 (December 28, 2010).

² See Final Determination of Sales at Less Than Fair Value and Final Partial Affirmative Determination of Critical Circumstances: Diamond Sawblades and Parts Thereof from the People's Republic of China, 71 FR 29303 (May 22, 2006).

³ See, e.g., Certain Steel Threaded Rod From the People's Republic of China: Preliminary Results of the Administrative Review, Intent To Rescind, and Rescission, in Part, 77 FR 27022, 27023 (May 8, 2012).

On June 4, 2012, the Department deferred issuing the final results of this administrative review in order to investigate further serious allegations of fraud in the concurrent administrative review of diamond sawblades and parts thereof from Korea.⁴ These allegations involve Korean affiliates of a Chinese mandatory respondent (Weihai Xiangguang Mechanical Industrial Co., Ltd.) and a Chinese separate-rate company (Qingdao Shinhan Diamond Industrial Co., Ltd.). That said, because we received letters withdrawing the requests for review of Hebei Jikai and Jiangyin Likn within the 90-day time limit, and we received no other requests for review of these companies, the Department is rescinding this review with respect diamond sawblades from the PRC exported by these two companies in accordance with 19 CFR 351.213(d)(1), The Department will issue appropriate assessment instructions to U.S. Customs and Border Protection 15 days after publication of this notice.

⁴ See Memorandum from Gary Taverman to Paul Piquado titled “Diamond Sawblades and Parts Thereof from the Republic of Korea and the People's Republic of China: Deferral of the Final Results of the First Antidumping Duty Administrative Reviews” dated June 4, 2012.

Notification to Importer

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice is published in accordance with section 777(i)(1) of the Tariff Act of 1930, as amended, and 19 CFR 351.213(d)(4).

Dated: August 2, 2012.
Gary Taverman,
Senior Advisor for Antidumping and Countervailing Duty Operations.

[FR Doc. 2012-19447 Filed 8-7-12; 8:45 am]

BILLING CODE 3510-DS-P